SMALL BUSINESS ADMINISTRATION

[Disaster Declaration #20407 and #20408; NEW MEXICO Disaster Number NM-20004]

Presidential Declaration Amendment of a Major Disaster for the State of New Mexico

AGENCY: Small Business Administration.

ACTION: Amendment 2.

SUMMARY: This is an amendment of the Presidential declaration of a major disaster for the State of New Mexico (FEMA-4795-DR), dated 06/20/2024.

Incident: South Fork Fire, Salt Fire, and Flooding.

Incident Period: 06/17/2024 and continuing.

DATES: Issued on 07/11/2024.

Physical Loan Application Deadline Date: 08/19/2024.

Economic Injury (EIDL) Loan Application Deadline Date: 03/20/2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the State of New Mexico, dated 06/20/2024, is hereby amended to include the following areas as adversely affected by the disaster:

Primary Counties (Physical Damage and Economic Injury Loans): Rio Arriba, San Juan.

Contiguous Counties (Economic Injury Loans Only):

New Mexico: Los Alamos, McKinley, Mora, Sandoval, Santa Fe, Taos.

Arizona: Apache.

Colorado: Archuleta, Conejos, La Plata, Montezuma.

Utah: San Juan.

All other information in the original declaration remains unchanged.

(Catalog of Federal Domestic Assistance Number 59008)

Francisco Sánchez, Jr.,
Associate Administrator, Office of Disaster Recovery & Resilience.

[FR Doc. 2024-15813 Filed 7-17-24; 8:45 am]

BILLING CODE 8026-09-P